DEPARTMENT OF ENERGY

U.S. Energy Information Administration

Agency Information Collection Extension With Changes

AGENCY: U.S. Energy Information Administration (EIA), U.S. Department of Energy.

ACTION: Notice and Request for OMB review and comment.

SUMMARY: The EIA is soliciting comments on the proposed revision and three-year extension of the surveys in the Natural Gas Data Collection Program Package under OMB Control No. 1905-0175.

The surveys covered by this request include:

• Form EIA-176, “Annual Report of Natural and Supplemental Gas Supply and Disposition”

• EIA-191, “Monthly Underground Gas Storage Report”

• EIA-757, “Natural Gas Processing Plant Survey”

• EIA-857, “Monthly Report of Natural Gas Purchases and Deliveries to Consumers”

• EIA-910, “Monthly Natural Gas Marketer Survey”

• EIA-912, “Weekly Underground Natural Gas Storage Report”

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 7, 2014. If you anticipate difficulty in submitting comments within that period, contact the person listed in ADDRESSES as soon as possible.

ADDRESSES: Send comments to Ms. Amy Sweeney, Natural Gas Downstream Team, Office of Oil, Gas, and Coal Supply Statistics, Energy Information Administration. To ensure receipt of the comments by the due date, submission by fax (202-586-1076) or email (amy.sweeney@eia.gov) is recommended. The mailing address is Ms. Amy Sweeney, Energy Information Administration, U.S. Department of Energy, 1000 Independence Ave. SW., EI-24, Washington, DC 20585. Also, Ms. Sweeney may be contacted by telephone at 202-586-2627.

FOR FURTHER INFORMATION CONTACT: Requests for additional information or copies of any forms and instructions should be directed to Ms. Sweeney at the address listed above. Also, the draft forms and instructions are available on the EIA Web site at http://www.eia.gov/survey/notice/ngdownstreamforms2015.cfm.

SUPPLEMENTARY INFORMATION: The Federal Energy Administration Act of 1974 (Pub. L. 93-275, 15 U.S.C. 761 et seq.) and the DOE Organization Act (Pub. L. 95-91, 42 U.S.C. 7101 et seq.) require EIA to carry out a centralized, comprehensive, and unified energy information program. This program collects, evaluates, assembles, analyzes, and disseminates information on energy resource reserves, production, demand, technology, and related economic statistics. This information is used to assess the adequacy of energy resources to meet both near- and longer-term domestic demands.

EIA, as part of its effort to comply with the Paperwork Reduction Act of 1995 (Pub. L. 104-13, 44 U.S.C. 3501 et seq.), provides the general public and other Federal agencies with opportunities to comment on the collection of energy information conducted by or in conjunction with EIA. Comments help EIA prepare data requests that maximize the utility of the information collected and assess the impact of collection requirements on the public. As required by section 3507(h)(1) of the Paperwork Reduction Act of 1995, EIA will later seek approval for this collection by the Office of Management and Budget (OMB).

The natural gas surveys included in the Natural Gas Data Collection Program Package collect information on natural gas production, underground storage, supply, processing, transmission, distribution, consumption by sector, and consumer prices. This information is used to support public policy analyses of the natural gas industry and estimates generated from data collected on these surveys. The statistics generated from these surveys are posted to the EIA Web site (http://www.eia.gov) and in various EIA products, including the Weekly Natural Gas Storage Report (WNGSR), Natural Gas Monthly (NGM), Natural Gas Annual (NGA), Monthly Energy Review (MER), Short-Term Energy Outlook (STEO), Annual Energy Outlook (AEO), and Annual Energy Review (AER). Respondents to EIA natural gas surveys include underground storage operators, transporters, marketers, and distributors. Each form included as part of this package is discussed in detail below.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

EIA is requesting a three-year extension of collection authority for each of the above-referenced surveys and will make minor changes to the forms and instructions to provide clarity. Data confidentiality procedures for protecting the identifiability of submitted data remain unchanged for all forms with the exception of a portion of Form EIA-191 as referenced below. In addition, EIA is proposing the following changes:

Form EIA-176, “Annual Report of Natural and Supplemental Gas Supply and Disposition”

(1) Type of Request: Extension, with changes, of a currently approved collection.

(2) Purpose: Form EIA-176, “Annual Report of Natural and Supplemental Gas Supply and Disposition,” collects data on natural, synthetic, and other supplemental gas supplies, disposition, and certain revenues by state. The data appear in the EIA publications, Monthly Energy Review, Natural Gas Annual, and Natural Gas Monthly. The proposed changes include:

• In Part 3, EIA is proposing to collect information on the price of compressed natural gas (CNG) for natural gas local distribution companies that sell CNG to the public. This information will provide information on retail prices of CNG. CNG is a growing segment of the natural gas industry that is not represented in EIA's natural gas retail price series.

• In Parts 4 and 6, which address sources of natural gas supply and disposition, respectively, EIA is proposing to add daily capacity, in million cubic feet per day, of underground storage injections and withdrawals (i.e., maximum daily injection rates and maximum daily withdrawal rates).

• EIA is also proposing to add capacity of interstate pipeline receipt and delivery points at state and U.S. borders, and the maximum daily injection and withdrawal rates of above-ground natural gas storage. Currently, EIA collects volumetric data for each of these data elements but would like to collect the related maximum daily rates for each. This will allow for a better understanding of to what extent natural gas injection and withdrawal rates at storage sites as well as movements at interstate and U.S. border points can potentially constrain the natural gas market's ability to supply gas at various locations during peak usage periods.

• Finally, in Part 5, EIA is proposing to collect the capacity of liquefied natural gas (LNG) marine terminals to gain a better understanding of the extent to which these storage assets are being utilized and are able to supply the market during periods of peak natural gas demand.

(3) Estimated Number of Survey Respondents: 2,012 respondents.

(4) Annual Estimated Number of Total Responses: The annual number of total responses is 2,012.

(5) Annual Estimated Number of Burden Hours: The annual estimated burden is 24,144 hours.

(6) Annual Estimated Reporting and Recordkeeping Cost Burden: Additional costs to respondents are not anticipated beyond costs associated with response burden hours.

Form EIA-191, “Monthly Underground Gas Storage Report”

(1) Type of Request: Extension, with changes, of a currently approved collection.

(2) Purpose: Form EIA-191, “Monthly Underground Gas Storage Report,” collects data on the operations of all active underground storage facilities. The data appear in the EIA publications Monthly Energy Review, Natural Gas Annual, and Natural Gas Monthly. EIA is proposing to make the following changes to the form:

• EIA is proposing to add maximum daily injection rate to Part 3 of the monthly Form EIA-191. Data on the maximum rate that natural gas can be injected into storage facilities will provide information on how quickly storage assets can be refilled. This has become increasingly important for assessing market supply conditions given the increasing reliance on underground storage to balance daily supply and demand during the peaks of both the heating and refill season.

• EIA is also proposing to collect the quantities of natural gas consumed for compression at storage sites each month. This will allow for more accurate estimates of the fuel used at underground storage sites which may not be adequately represented in EIA's monthly and annual data depicting the supply and demand balance of natural gas in the United States.

• To reduce reporting burden EIA is proposing to discontinue two categories regarding Field Status: “Depleting;” and “Other.” EIA will use only two categories, “Active” and “Inactive.” The category “Inactive” is more descriptive and replaces the Field Status category label of “Abandoned.” The “Depleting” and “Other” categories are rarely used by reporting companies and collapsing these categories into “Inactive” will not cause a loss in data utility, as the same data will still be reported, albeit in a single category.

• Finally, EIA is proposing to make public reported values for monthly base gas levels reported in Part 4. This information will enhance the utility of the underground storage information already available to the public pertaining to capacity and working gas capacity and also indicate another source of supply during times of sustained high demand. The current confidentiality protection covering the other information reported in Part 4, including monthly working gas, total gas in storage, and injections and withdrawals into storage, will be retained. EIA will continue to publish, in disaggregated form, information collected in Part 3 of Form EIA-191, including storage field name and type, reservoir name, location, working gas and total storage field capacity, maximum deliverability and the newly proposed maximum injection rate. On its Web site, EIA currently releases this information at the field level through its Natural Gas Annual Respondent Query System. EIA is seeking comment on whether the proposal to include field-level base gas with the currently available information on field-level working gas and total gas field capacity will cause competitive harm to storage operators.

(3) Estimated Number of Survey Respondents: There are approximately 122 respondents.

(4) Annual Estimated Number of Total Responses: The annual estimated number of total responses is 1,464.

(5) Annual Estimated Number of Burden Hours: The annual estimated burden is 3,806 hours.

(6) Annual Estimated Reporting and Recordkeeping Cost Burden: Additional costs to respondents are not anticipated beyond costs associated with response burden hours.

Form EIA-757, “Natural Gas Processing Plant Survey”

(1) Type of Request: Extension, with changes, of a currently approved collection.

(2) Purpose: Form EIA-757, “Natural Gas Processing Plant Survey,” collects information on the capacity, status, and operations of natural gas processing plants, and monitors constraints of natural gas processing plants during periods of supply disruption in areas affected by an emergency, such as a hurricane. Schedule A of the EIA-757 is collected no more than every three years to collect baseline operating and capacity information from all respondents and Schedule B is activated as needed and collected from a sample of respondents in affected areas as needed. Schedule A was most recently conducted in 2012 and Schedule B was most recently activated in 2012 for Hurricane Isaac with a sample of approximately 20 plants. EIA is proposing to continue the collection of the same data elements on Form EIA-757 Schedules A and B in their present form with the following change to:

• EIA is proposing to eliminate two elements from Schedule A, annual average total plant capacity and annual average natural gas flow at plant inlet, as this information will be duplicative of information to be collected on a proposed new survey of natural gas processing plants, Form EIA-915, to be submitted under a separate OMB Control Number.

(3) Estimated Number of Survey Respondents: Schedule A: 500; Schedule B: 20.

(4) Annual Estimated Number of Total Responses: Schedule A is used to collect information once every three years. Therefore, the annual estimated number of total responses for Schedule A is 167. The annual estimated number of total responses for Schedule B is 7. Annual Estimated Number of Burden Hours: The annual estimated burden for Schedule A is 84 hours. The annual estimated burden for Schedule B is 105 hours.

(5) Annual Estimated Reporting and Recordkeeping Cost Burden: Additional costs to respondents are not anticipated beyond costs associated with response burden hours.

Form EIA-857, “Monthly Report of Natural Gas Purchases and Deliveries to Consumers”

(1) Type of Request: Extension, with change, of a currently approved collection.

(2) Purpose: Form EIA-857, “Monthly Report of Natural Gas Purchases and Deliveries to Consumers,” collects data on the quantity and cost of natural gas delivered to distribution systems and the quantity and revenue of natural gas delivered to end-use consumers by market sector, on a monthly basis by state. The data appear in the EIA publications, Monthly Energy Review, Natural Gas Annual, and Natural Gas Monthly. EIA is proposing the following change:

• EIA is proposing to add a new question to the form that asks whether the reporting company is including any adjustments to prior periods in their current monthly reporting. Reporting companies frequently make adjustments to correct data previously submitted in prior periods that skew the current month's reporting and EIA would like to propose this mechanism to more easily identify this phenomenon and address it proactively with the reporting companies.

(3) Estimated Number of Survey Respondents: 310 respondents each month.

(4) Annual Estimated Number of Total Responses: The annual estimated number of total responses is 3,720.

(5) Annual Estimated Number of Burden Hours: The annual estimated burden is 13,020 hours.

(6) Annual Estimated Reporting and Recordkeeping Cost Burden: Additional costs to respondents are not anticipated beyond costs associated with response burden hours.

Form EIA-910, “Monthly Natural Gas Marketer Survey”

(1) Type of Request: Extension, with changes, of a currently approved collection.

(2) Purpose: Form EIA-910, “Monthly Natural Gas Marketer Survey,” collects information on natural gas sales from marketers in selected states that have active customer choice programs. EIA is requesting information on the volume and revenue for natural gas commodity sales and any receipts for distribution charges and taxes associated with the sale of natural gas. EIA is proposing to continue Form EIA-910 in its present form with no changes to the elements collected or geographic coverage.

(3) Estimated Number of Survey Respondents: There are approximately 210 respondents each month.

(4) Annual Estimated Number of Total Responses: The annual estimated number of total responses is 2,520.

(5) Annual Estimated Number of Burden Hours: The annual estimated burden is 5,040 hours.

(6) Annual Estimated Reporting and Recordkeeping Cost Burden: Additional costs to respondents are not anticipated beyond costs associated with response burden hours.

Form EIA-912, “Weekly Underground Natural Gas Storage Report”

(1) Type of Request: Extension, with changes, of a currently approved collection.

(2) Purpose: Form EIA-912, “Weekly Underground Natural Gas Storage Report,” collects information on weekly inventories of natural gas in underground storage facilities. The proposed changes include an additional data element as well as expanded geographic categories for working gas collection and publication in the Lower 48 states:

• Instead of dividing the states into three regions, the East, West and Producing Regions, EIA is proposing to collect data in five regions by further breaking out the current regions. The states currently included in the Producing region will remain unchanged but the region will now be referred to as the South Central region. The South Central region will continue to have two subcategories for the different storage technologies prevalent in the region, salt and non-salt facilities. Four additional regions that further break out the current East and West regions will be added in order to enhance the analysis and usability of the data. The new geographic regions are defined in the following table:

Current EIA-912 regions | Proposed EIA-912 regions
Producing Region: Alabama, Arkansas, Kansas, Louisiana, Mississippi, New Mexico, Oklahoma, and Texas | South Central Region: Alabama, Arkansas, Kansas, Louisiana, Mississippi, New Mexico, Oklahoma, and Texas.
East Region: Connecticut, Delaware, District of Columbia, Florida, Georgia, Illinois, Indiana, Iowa, Kentucky, Massachusetts, Maryland, Maine, Michigan, Missouri, Nebraska, New Hampshire, New Jersey, New York, North Carolina, Ohio, Pennsylvania, Rhode Island, South Carolina, Tennessee, Vermont, Virginia, Wisconsin, and West Virginia | East Region: Connecticut, Delaware, District of Columbia, Florida, Georgia, Kentucky, Massachusetts, Maryland, Maine, New Hampshire, New Jersey, New York, North Carolina, Ohio, Pennsylvania, Rhode Island, South Carolina, Tennessee, Vermont, Virginia, and West Virginia.
| Midwest Region: Illinois, Indiana, Iowa, Michigan, Missouri, and Wisconsin.
West Region: Arizona, California, Colorado, Idaho, Minnesota, Montana, Nevada, North Dakota, Oregon, South Dakota, Utah, Washington, and Wyoming | Mountain Region: Arizona, Colorado, Idaho, Minnesota, Montana, Nebraska, Nevada, North Dakota, South Dakota, Utah, and Wyoming.
| Pacific Region: California, Oregon, and Washington.

• EIA is also proposing a new data element, Net Withdrawals of Working Gas into and out of Storage, which will be reported as weekly withdrawals of working gas in excess of injections. This new element will directly collect the net flow of working gas into or out of storage inventory on a weekly basis, a statistic of great interest by the natural gas industry. Currently, the Weekly Natural Gas Storage Report reports a proxy for weekly net withdrawals by calculating the net change of working gas levels from week to week. However, collecting the net flow or Net Withdrawals of Working Gas into and out of Storage will make weekly movements explicit instead of derived by the difference between inventory levels. Further, direct collection of the weekly net flow into or out of working gas inventories will supplement the information on working gas inventories currently collected by making a clearer distinction between net flows and reclassifications between base and working gas.

• Finally, EIA is proposing two changes to its current Weekly Natural Gas Storage Report revision policy. The first proposed change would reduce the threshold for published revisions from 7 billion cubic feet (Bcf) to 4 Bcf. Under the proposed revision policy, revisions will be announced in the regularly scheduled release, when the sum of reported changes is at least 4 Bcf at either a regional or national level. Second, EIA is also proposing to amend the policy addressing the unscheduled release of revisions. Under the current policy, an unscheduled release of revised data will occur when the cumulative effect of respondent submitted data changes or corrections is at least 10 Bcf for the current or prior report week. Under the proposed policy, the unscheduled release of revisions to weekly estimates of working gas held in underground storage will occur when the cumulative sum of data changes or corrections to working gas and the net change between the two most recent report weeks is at least 10 Bcf. The proposed change leaves the 10-Bcf threshold, as well as the current out-of-cycle release procedures intact but will further require that the revision have an impact of 10 Bcf or more on the reported net change between the two most recent reports weeks. For example, if one or more respondents submits changes totaling 10 Bcf to previously submitted data but the changes are the result of errors that have been accumulating over several weeks and do not affect flows of working natural gas into or out of storage in the most recent two reported weekly periods by more than 10 Bcf, the unscheduled data release will not occur and the revisions will be published with the next regularly scheduled release.

(3) Estimated Number of Survey Respondents: There are approximately 85 respondents every week.

(4) Annual Estimated Number of Total Responses: The annual estimated number of total responses is 4,420.

(5) Annual Estimated Number of Burden Hours: The annual estimated burden is 4,420 hours.

(6) Annual Estimated Reporting and Recordkeeping Cost Burden: Additional costs to respondents are not anticipated beyond costs associated with response burden hours.

Authority: Section 13(b) of the Federal Energy Administration Act of 1974, Pub. L. 93-275, codified at 15 U.S.C. 772(b).

Issued in Washington, DC, on May 2, 2014.
Stephen J. Harvey,
Assistant Administrator for Energy Statistics, U.S. Energy Information Administration.

[FR Doc. 2014-10571 Filed 5-7-14; 8:45 am]

BILLING CODE 6450-01-P